DEPARTMENT OF COMMERCE

Patent and Trademark Office

[Docket No.: PTO-P-2010-0038]

Notice of Roundtables and Request for Comments on Enhancement in the Quality of Patents and on United States Patent and Trademark Office Patent Quality Metrics

AGENCY: United States Patent and Trademark Office, Commerce.

ACTION: Notice of public meeting; request for comments.

SUMMARY: The United States Patent and Trademark Office (USPTO), in conjunction with the Patent Public Advisory Committee (PPAC), has undertaken a project related to enhancing overall patent quality. As part of this initiative, the USPTO is conducting two roundtables to obtain public input from organizations and individuals on actions that can improve patent quality and the metrics the USPTO should use to measure progress. The roundtables are open to the public. The USPTO plans to invite a number of roundtable participants from among patent user groups, practitioners, industry, independent inventor organizations, academia, and government. Any member of the public may submit written comments on USPTO patent quality enhancement and metrics as well as on any issue raised at the roundtable.

DATES: The first roundtable will be held on Monday, May 10, 2010, beginning at 1 p.m. Pacific Daylight Time (PDT) and ending at 5 p.m. PDT.

The second roundtable will be held on Tuesday, May 18, 2010, beginning at 8:30 a.m. Eastern Daylight Time (EDT) and ending at 12 noon EDT.

The deadline for receipt of written comments is June 18, 2010.

ADDRESSES: The first (May 10, 2010) roundtable will be held at the Los Angeles Public Library—Central Library, which is located at 630 W. 5th Street, Los Angeles, California 90071.

The second (May 18, 2010) roundtable will be held at the USPTO in the Madison Auditorium on the concourse level of the Madison Building, which is located at 600 Dulany Street, Alexandria, Virginia 22314.

Written comments should be sent by electronic mail message over the Internet addressed to patent_quality_comments@uspto.gov. Comments may also be submitted by mail addressed to: Mail Stop Comments—Patents, Commissioner for Patents, P.O. Box 1450, Alexandria, VA 22313-1450, marked to the attention of Elizabeth L. Dougherty. Although comments may be submitted by mail, the USPTO prefers to receive comments via the Internet.

The written comments and list of the roundtable participants and their associations will be available for public inspection at the Office of the Commissioner for Patents, located in Madison East, Tenth Floor, 600 Dulany Street, Alexandria, Virginia, and will be available via the USPTO Internet Web site (address: http://www.uspto.gov). Because comments will be made available for public inspection, information that is not desired to be made public, such as an address or phone number, should not be included in the comments.

FOR FURTHER INFORMATION CONTACT: Elizabeth L. Dougherty, Office of Patent Legal Administration, Office of the Associate Commissioner for Patent Examination Policy, by telephone at (571) 272-7733, by electronic mail message at elizabeth.dougherty@uspto.gov.

SUPPLEMENTARY INFORMATION: The USPTO in conjunction with the PPAC has undertaken a project related to overall patent quality. As part of that effort, a notice was published soliciting comments from the public on means to enhance quality of the patent process with particular emphasis on the search, examination, application and methods of meaningfully measuring such enhanced quality. See Request for Comments on Enhancement in the Quality of Patents, 74 FR 65093 (Dec. 9, 2009) (Patent Quality Request for Comments). In the Patent Quality Request for Comments, the USPTO stated that it would like to focus, inter alia, on improving the process for obtaining the best prior art, preparation of the initial application, and examination and prosecution of the application. The USPTO sought public comment directed to this focus with respect to methods that may be employed by applicants and the USPTO to enhance the quality of issued patents, to identify appropriate indicia of quality, and to establish metrics for the measurement of the indicia. The original comment period was extended to March 8, 2010. See Extension of Period for Comments on Enhancement in the Quality of Patents, 75 FR 5040 (Feb. 1, 2010).

The comments may be viewed on the USPTO's Web site at http://www.uspto.gov/patents/law/comments/patentqualitycomments.jsp. A summary of the comments, prepared by the PPAC, as well as a summary of the comments and responses prepared by the USPTO, is included for the participants to review and will be posted on the USPTO's Web site at http://www.uspto.gov/patents/init_events/patentquality.jsp.

As a part of this initiative, the USPTO is conducting two roundtables, one at the Los Angeles Public Library—Central Library facility, and one at the USPTO, to obtain public input from organizations and individuals on patent quality and USPTO patent quality metrics. The number of participants in each roundtable is limited to ensure that all who are speaking will have a meaningful chance to do so. The USPTO plans to invite participants from patent user groups, practitioners, industry, independent inventor organizations, academia, and government. The roundtables are open to the public.

The USPTO will provide an agenda, list of participants, and preparatory materials to the participants prior to the roundtable in order to focus the discussion and enhance the efficiency of the proceedings. All such materials will be posted on the USPTO's Internet Web site. The USPTO plans to make the roundtable held at the USPTO on May 18, 2010, available via Web cast; efforts are being made to also make the roundtable held at the Los Angeles Public Library-Central Library facility available via Web cast if reasonably possible. Web cast information will be available before the roundtable on the USPTO's Internet Web site. The written materials for the roundtable, any slides or handouts distributed at the roundtable, and the list of the roundtable participants for each roundtable and their associations will also be posted on the USPTO's Internet Web site. The USPTO patent quality metrics under consideration will be posted on the USPTO's Web site at http://www.uspto.gov/patents/init_events/patentquality.jsp.

The patent quality metrics posted on the USPTO's Web site have been presented to facilitate a discussion on patent quality metrics and should not be taken as an indication that the USPTO has predetermined that it will adopt these patent quality metrics or that the USPTO is not interested in suggestions that the USPTO consider other patent quality metrics. The USPTO is inviting written comments from any member of the public on USPTO patent quality metrics as well as on any issue raised at the roundtable.

Dated: April 23, 2010.
David J. Kappos,
Under Secretary of Commerce for Intellectual Property and Director of the United States Patent and Trademark Office.

[FR Doc. 2010-9851 Filed 4-26-10; 8:45 am]

BILLING CODE 3510-16-P